DEPARTMENT OF THE INTERIOR

Minerals Management Service

Agency Information Collection Activities: Submitted for Office of Management and Budget (OMB) Review; Comment Request

AGENCY: Minerals Management Service (MMS), Interior.

ACTION: Notice of extension of an information collection (1010-0106).

SUMMARY: To comply with the Paperwork Reduction Act of 1995 (PRA), we are notifying the public that we have submitted to OMB an information collection request (ICR) to renew approval of the paperwork requirements in the regulations under 30 CFR part 253, “Oil Spill Financial Responsibility for Offshore Facilities.” This notice also provides the public a second opportunity to comment on the paperwork burden on these regulatory requirements.

DATES: Submit written comments by October 20, 2004.

ADDRESSES: You may submit comments either by fax (202) 395-6566 or email (OIRA_DOCKET@omb.eop.gov) directly to the Office of Information and Regulatory Affairs, OMB, Attention: Desk Officer for the Department of the Interior (1010-0106). Mail or hand carry a copy of your comments to the Department of the Interior; Minerals Management Service; Attention: Rules Processing Team; Mail Stop 4024; 381 Elden Street; Herndon, Virginia 20170-4817. If you wish to email your comments to MMS, the address is: rules.comments@mms.gov. Reference Information Collection 1010-0106 in your subject line and mark your message for return receipt. Include your name and return address in your message text.

FOR FURTHER INFORMATION CONTACT: Cheryl Blundon, Rules Processing Team, (703) 787-1600. You may also contact Cheryl Blundon to obtain a copy, at no cost, of the regulations and the forms that require the subject collection of information.

SUPPLEMENTARY INFORMATION: Title: 30 CFR Part 253, Oil Spill Financial Responsibility for Offshore Facilities.

OMB Control Number: 1010-0106.

Abstract: Title I of the Oil Pollution Act of 1990 (OPA) (33 U.S.C. 2701 et seq.), as amended by the Coast Guard Authorization Act of 1996 (P.L. 104-324), provides at section 1016 that oil spill financial responsibility (OSFR) for offshore facilities be established and maintained according to methods determined acceptable to the President. Section 1016 of OPA supersedes the offshore facility OSFR provisions of the Outer Continental Shelf Lands Act Amendments of 1978. These authorities and responsibilities are among those delegated to MMS under which we issue regulations governing oil and gas and sulphur operations in the OCS. The information collection discussed in this notice that we are submitting to OMB addresses the regulations at 30 CFR Part 253, Oil Spill Financial Responsibility for Offshore Facilities, forms MMS-1016 through MMS-1022, and any associated supplementary notices to lessees and operators intended to provide clarification, description, or explanation of these regulations.

The MMS uses the information collected under 30 CFR part 253 to verify compliance with section 1016 of OPA. The information is necessary to confirm that applicants can pay for cleanup and damages from oil-spill discharges from covered offshore facilities (COFs). Routinely, the information will be used: (a) To establish eligibility of applicants for an OSFR Certification; and (b) as a reference source for clean-up and damage claims associated with oil-spill discharges from COFs; the names, addresses, and telephone numbers of owners, operators, and guarantors; designated U.S. agents for service of process; and persons to contact. To collect most of the information, MMS developed standard forms. The forms and their purposes are:

Form MMS-1016, Designated Applicant Information Certification: The designated applicant uses this form to provide identifying information (company legal name, address, contact name and title, telephone numbers) and to summarize the OSFR evidence. This form is required for each new OSFR Certification application.

Form MMS-1017, Designation of Applicant: When there is more than one responsible party for a COF, they must select a designated applicant. Each responsible party, as defined in the regulations, must use this form to notify MMS of the designated applicant. This form is also used to designate the U.S. agent for service of process for the responsible party(ies) should claims from an oil-spill discharge exceed the amount evidenced by the designated applicant; identifies and provides pertinent information about the responsible party(ies); and lists the covered offshore facilities for which the designated applicant is responsible for OSFR certification. The form identifies each COF by State or OCS region; lease, permit, right of use and easement, or pipeline number; aliquot section; area name; and block number. This form must be submitted with each new OSFRC application in which there is at least one responsible party who is not the designated applicant for a COF.

Form MMS-1018, Self-insurance or Indemnity Information: This form is used if the designated applicant is self-insuring or using an indemnity as OSFR evidence. As appropriate, either the designated applicant or the designated applicant's indemnitor completes the form to indicate the amount of OSFR coverage and effective and expiration dates. The form also provides pertinent information about the self-insurer or indemnitor and is used to designate a U.S. agent for service of process for claims up to the evidenced amount. This form must be submitted each time new evidence of OSFR is submitted using either self-insurance or an indemnity.

Form MMS-1019, Insurance Certificate: The designated applicant (representing himself as a direct purchaser of insurance) or his insurance agent or broker and the named insurers complete this form to provide OSFR evidence using insurance. The number of forms to be submitted will depend upon the amount of OSFR required and the number of layers of insurance to evidence the total amount of OSFR required. One form is required for each layer of insurance. The form provides pertinent information about the insurer(s) and designates a U.S. agent for service of process. This form must be submitted at the beginning of the term of the insurance coverage for the designated applicant's COFs or at the time COFs are added, with the scheduled option selected, to OSFR coverage.

Form MMS-1020, Surety Bond: Each bonding company that issues a surety bond for the designated applicant must complete this form indicating the amount of surety and effective dates. The form provides pertinent information about the bonding company and designates a U.S. agent for service of process for the amount evidenced by the surety bond. This form must be submitted at the beginning of the term of the surety bond for the named designated applicant.

Form MMS-1021, Covered Offshore Facilities: The designated applicant submits this form to identify the COFs to which the OSFR evidence applies. The form identifies each COF by State or OCS region; lease, permit, right of use and easement, or pipeline number; aliquot section; area name; block number; and potential worst case oil-spill discharge. This form is required to be submitted with each new OSFR Certification application that includes COFs.

Form MMS-1022, Covered Offshore Facility Changes: During the term of the issued OSFR Certification, the designated applicant submits changes to the current COF listings on this form, including changes to the worst case oil-spill discharge for a COF. This form must be submitted when identified changes occur during the term of an OSFR Certification.

Responses are mandatory. No questions of a “sensitive” nature are asked. Respondents are not required to submit confidential or proprietary information. All public requests for information about an applicant's OSFR Certification will be processed according to the Freedom of Information Act (5 U.S.C. 552) procedures.

Frequency: The frequency of submission will vary, but most will respond at least once per year.

Estimated Number and Description of Respondents: We estimate there are approximately 600 respondents. Some will be holders of leases, permits, and rights of use and easement in the OCS and in State coastal waters who will appoint approximately 200 designated applicants. Other respondents will be the designated applicants' insurance agents and brokers, bonding companies, and indemnitors. There are no recordkeeping requirements associated with this collection.

Estimated Annual Reporting and Recordkeeping “Hour” Burden: The following chart details the components of the hour burden for the information collection requirements in Part 253—an estimated annual total of 19,299 burden hours. In estimating the burdens, we assumed that respondents perform certain requirements in the normal course of their activities. We consider these to be usual and customary and took that into account in estimating the burden.

Citation 30 CFR 253 | Reporting requirement | Hour burden | Average number annual responses | Annual burden hours
Various sections | The burdens for all general references to submitting evidence of OSFR are covered under the forms below. |  |  | 0
Subpart B: 11(a)(1), Subpart D: 40; 41 | Form MMS-1016—Designated Applicant Information Certification | 1 | 200 | 200
Subpart B: 11(a)(1), Subpart D: 40; 41 | Form MMS-1017—Designation of Applicant | 9 | 600 | 5,400
Subpart C: 21; 22; 23; 24; 26; 27; 30, Subpart D: 40; 41; 43 | Form MMS-1018—Self-Insurance or Indemnity Information | 1 | 100 | 100
Subpart C: 29, Subpart D: 40; 41; 43 | Form MMS-1019—Insurance Certificate | 120 | 100 | 12,000
Subpart C: 31, Subpart D: 40; 41; 43 | Form MMS-1020—Surety Bond | 24 | 2 | 48
Subpart D: 40; 41 | Form MMS-1021—Covered Offshore Facilities | 3 | 300 | 900
Subpart D: 40; 41; 42 | Form MMS-1022—Covered Offshore Facility Changes | 1 | 500 | 500
Subpart B: 12 | Request for determination of OSFR applicability | 2 | 5 | 10
Subpart B: 15 | Notify MMS of change in ability to comply | 1 | 1 | 1
Subpart B: 15(f) | Provide claimant written explanation of denial | 1 | 15 | 15
Subpart C: 32 | Proposal for alternative method to evidence OSFR (anticipate no proposals, but the regs provide the opportunity) | 120 | 1 | 120
Subpart F | Claims: MMS will not be involved in the claims process. Assessment of burden for claims against the Oil Spill Liability Trust Fund (30 CFR parts 135, 136, 137) should be the responsibility of the U.S. Coast Guard |  |  | 0
Subpart F: 60 | Claimant request to determine whether a guarantor may be liable for a claim | 2 | 1 | 2
253.1-62 | General departure and alternative compliance requests not specifically covered elsewhere in 30 CFR 253 | 3 | 1 | 3
Total Burden |  |  | 1,826 | 19,299

Estimated Annual Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “ * * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 8, 2004, we published a Federal Register notice (69 FR 10744) announcing that we would submit this ICR to OMB for approval. The notice provided the required 60-day comment period. In addition, § 253.5 provides the OMB control number for the information collection requirements imposed by the 30 CFR 253 regulations and forms. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by October 20, 2004.

Public Comment Policy: MMS's practice is to make comments, including names and addresses of respondents, available for public review during regular business hours. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Information Collection Clearance Officer: Arlene Bajusz, (202) 208-7744.

Dated: June 4, 2004.
E.P. Danenberger,
Chief, Engineering and Operations Division.

[FR Doc. 04-21070 Filed 9-17-04; 8:45 am]

BILLING CODE 4310-MR-P